DEPARTMENT OF COMMERCE

International Trade Administration

Extension of Time Limit for Final Results of Expedited Five-Year Reviews

AGENCY: Import Administration, International Trade Administration, Department of Commerce.

ACTION: Notice of extension of time limit for final results of expedited five-year (“Sunset”) reviews.

SUMMARY: The Department of Commerce (“the Department”) is extending the time limit for the final results of eight expedited sunset reviews initiated on November 2, 1999 (64 FR 59160) covering various antidumping duty orders. Based on adequate responses from domestic interested parties and inadequate responses from respondent interested parties, the Department is conducting expedited sunset reviews to determine whether revocation of the antidumping duty orders would be likely to lead to continuation of recurrence of dumping. As a result of these extensions, the Department intends to issue its final results not later than May 30, 2000.

EFFECTIVE DATE: March 6, 2000.

FOR FURTHER INFORMATION CONTACT: Mark D. Young or Melissa G. Skinner, Import Administration, International Trade Administration, U.S. Department of Commerce, 14th Street and Constitution Avenue, NW, Washington, DC 20230; telephone: (202) 482-6397, or (202) 482-1560 respectively.

Extension of Final Results

In accordance with section 751(c)(5)(C)(v) of the Tariff Act of 1930, as amended (“the Act”), the Department may treat a sunset review as extraordinarily complicated if it is a review of a transition order (i.e., an order in effect on January 1, 1995). The reviews at issue concern transition orders within the meaning of section 751(c)(6)(C)(ii) of the Act. The Department has determined that the sunset reviews of the following antidumping duty orders are extraordinarily complicated:

A-570-806 Silicon Metal from the People's of China (“PRC”)

A-351-806 Silicon Metal from Brazil

A-357-804 Silicon Metal from Argentina

A-351-824 Silicomanganese from Brazil

A-570-828 Silicomanganese from the PRC

A-588-823 Electric Cutting Tools from Japan

A-583-820 Helical Spring Lock Washers from Taiwan

A-570-822 Helical Spring Lock Washers from the PRC

Therefore, the Department is extending the time limit for completion of the final results of these reviews until not later than May 30, 2000, in accordance with section 751(c)(5)(B) of the Act.

Dated: February 29, 2000.
Joseph A. Spetrini,
Acting Assistant Secretary for Import Administration.

[FR Doc. 00-5372 Filed 3-3-00; 8:45 am]

BILLING CODE 3510-DS-M